DEPARTMENT OF JUSTICE

Notice of Lodging of Consent Decree Under the Clean Air Act

Under 28 CFR 50.7, notice is hereby given that on Thursday, January 21, 2010, a proposed Consent Decree in United States, et al. v. Lafarge North America, Inc., et al., Civil Action No. 10-CV-00044, was lodged with the United States District Court for the Southern District of Illinois.

In a complaint that was filed simultaneously with the Consent Decree, the United States seeks injunctive relief and penalties against Lafarge North America, Inc., Lafarge Midwest, Inc. and Lafarge Building Materials, Inc. (collectively “Lafarge Companies”), pursuant to Sections 113(b) and 167 of the Clean Air Act (“the Act”), 42 U.S.C. 7413(b) and 7477, for alleged environmental violations of the Prevention of Significant Deterioration (“PSD”) provisions of the Act, 42 U.S.C. 7470-7492; the nonattainment New Source Review (“nonattainment NSR”) provisions of the Act, 42 U.S.C. 7501-7515; and the federally-approved and enforceable state implementation plans, which incorporate and/or implement the above listed federal PSD and/or nonattainment NSR requirements. The Complaint also alleges violations of Title V of the Act, 42 U.S.C. §§ 7661-7661f, and Title V's implementing Federal and State regulations. These violations are alleged to have occurred at one or more of each of the Lafarge Companies' Portland cement plants located in Alpena, Michigan; Ravena, New York; Tulsa, Oklahoma; Fredonia, Kansas; Sugar Creek, Missouri; Buffalo, Iowa; Paulding, Ohio; Gand Chain, Illinois; Seattle, Washington; Whitehall, Pennsylvania; Harleyville, South Carolina; Atlanta, Georgia; and Calera, Alabama.

Under the proposed settlement, the Lafarge Companies will be required to implement pollution control technologies to reduce emissions of nitrogen oxides and sulfur dioxide at designated cement kilns and to meet emission limits which are either set forth in the Consent Decree or will be set later by following procedures specified in the Decree. In addition, the Lafarge Companies must pay a total civil penalty of $5,075,000. Two-thirds of this penalty ($3,383,000) will be paid to the United States, and the remaining one-third will be shared among the participating states and agencies as set forth in the Consent Decree.

The States of Alabama, Illinois, Iowa, Kansas, Michigan, Missouri, New York, Ohio and the Commonwealth of Pennsylvania Department of Environmental Protection, the South Carolina Department of Health and Environmental Control, the Washington State Department of Ecology, the Oklahoma Department of Environmental Quality, and the Puget Sound Clean Air Agency have joined in this settlement as signatories to the Consent Decree.

The Department of Justice will receive for a period of thirty (30) days from the date of this publication comments relating to the Consent Decree. Comments should be addressed to the Assistant Attorney General, Environment and Natural Resources Division, and either mailed to pubcomment-ees.enrd@usdoj.gov or mailed to P.O. Box 7611, U.S. Department of Justice, Washington, DC 20044-7611, and should refer to United States, et al. v. Lafarge North America, Inc., et al., D.J. Ref. 90-5-2-1-08221.

The Consent Decree may be examined at the Office of the United States Attorney, Nine Executive Drive, Fairview Heights, Illinois 62208-1344 and at U.S. EPA Region 5, 77 West Jackson Blvd., Chicago, Illinois 60604-3590. During the public comment period, the Consent Decree may also be examined on the following Department of Justice Web site, http://www.usdoj.gov/enrd/Consent_Decrees.html. A copy of the Consent Decree may also be obtained by mail from the Consent Decree Library, P.O. Box 7611, U.S. Department of Justice, Washington, DC 20044-7611 or by faxing or e-mailing a request to Tonia Fleetwood (tonia.fleetwood@usdoj.gov), fax number (202) 514-0097, phone confirmation number (202) 514-1547. In requesting a copy from the Consent Decree Library, please enclose a check in the amount of $38.00 (25 cents per page reproduction cost) payable to the U.S. Treasury or, if by e-mail or fax, forward a check in that amount to the Consent Decree Library at the stated address.

Maureen Katz,
Assistant Section Chief, Environmental Enforcement Section, Environment and Natural Resources Division.

[FR Doc. 2010-2489 Filed 2-4-10; 8:45 am]

BILLING CODE 4410-15-P